DEPARTMENT OF COMMERCE

International Trade Administration

[A-583-860]

Fine Denier Polyester Staple Fiber From Taiwan: Final Affirmative Determination of Sales at Less Than Fair Value

AGENCY: Enforcement and Compliance, International Trade Administration, Department of Commerce.

SUMMARY: The Department of Commerce (Commerce) determines that fine denier polyester staple fiber (fine denier PSF) from Taiwan is being, or is likely to be, sold in the United States at less than fair value (LTFV). The period of investigation (POI) is April 1, 2016, through March 31, 2017.

DATES: Applicable May 30, 2018.

FOR FURTHER INFORMATION CONTACT: Lilit Astvatsatrian, AD/CVD Operations, Office IV, Enforcement and Compliance, International Trade Administration, U.S. Department of Commerce, 1401 Constitution Avenue NW, Washington, DC 20230; telephone: (202) 482-6412.

SUPPLEMENTARY INFORMATION:

Background

On January 5, 2018, Commerce published the Preliminary Determination of this antidumping duty investigation, as provided by section 735 of the Tariff Act of 1930, as amended (the Act). Commerce preliminarily found that fine denier PSF from Taiwan was sold at LTFV.¹ A summary of the events that have occurred since Commerce published the Preliminary Determination, as well as a full discussion of the issues raised by interested parties for this final determination, may be found in the Issues and Decision Memorandum.² The Issues and Decision Memorandum is a public document and is on file electronically via Enforcement and Compliance's Antidumping and Countervailing Duty Centralized Electronic Service System (ACCESS). ACCESS is available to registered users at https://access.trade.gov, and to all parties in the Central Records Unit, Room B8024 of the main Department of Commerce building. In addition, a complete version of the Issues and Decision Memorandum can be accessed directly at http://enforcement.trade.gov/frn/.

¹ See Fine Denier Polyester Staple Fiber from Taiwan: Preliminary Affirmative Determination of Sales at Less Than Fair Value, Postponement of Final Determination, and Extension of Provisional Measures, 83 FR 668 (January 5, 2018), and accompanying Preliminary Decision Memorandum (collectively, Preliminary Determination).

² See Memorandum, “Fine Denier Polyester Staple Fiber from Taiwan: Issues and Decision Memorandum for the Final Affirmative Determination in the Less Than Fair Value,” dated concurrently with, and hereby adopted by, this notice (Issues and Decision Memorandum).

Commerce has exercised its discretion to toll deadlines for the duration of the closure of the Federal Government from January 20 through 22, 2018. The revised deadline for the final determination in this investigation is now May 23, 2018.³

³ See Memorandum for The Record from Christian Marsh, Deputy Assistant Secretary for Enforcement and Compliance, performing the non-exclusive functions and duties of the Assistant Secretary for Enforcement and Compliance, “Deadlines Affected by the Shutdown of the Federal Government” (Tolling Memorandum), dated January 23, 2018. All deadlines in this segment of the proceeding have been extended by three days.

Scope Comments

We provided parties an opportunity to provide comments on all issues regarding product coverage (i.e., scope).⁴ Certain interested parties commented on the scope of the investigation as it appeared in the Preliminary Determination.⁵ For a summary of the product coverage comments and rebuttals submitted to the record of this investigation, and our accompanying discussion and analysis of the comments and rebuttals that were timely received, see the Final Scope Decision Memorandum.⁶ Based on parties' comments, we made no changes to the scope of the investigation, as it appeared in the Preliminary Determination.⁷ The product covered by this investigation is fine denier PSF from Taiwan. For a complete description of the scope of this investigation, see Appendix I.

⁴ See Memorandum, “Due Dates for Case and Rebuttal Briefs Regarding the Scope,” dated December 11, 2017.

⁵ See Preliminary Determination.

⁶ See Memorandum, “Fine Denier Polyester Staple Fiber from the People's Republic of China, India, Republic of Korea, and Taiwan: Scope Comments Decision Memorandum for the Final Determinations,” dated January 16, 2018 (Final Scope Memorandum).

⁷ While we made no changes to the scope based on parties' comments, we discovered that we inadvertently included the phrase “or pre-opened” in the scope in the Preliminary Determination. This phrase was not included in the scope in the Initiation (see Fine Denier Polyester Staple Fiber from the People's Republic of China, India, the Republic of Korea, Taiwan, and the Socialist Republic of Vietnam: Initiation of Less-Than-Fair-Value Investigations, 82 FR 29023 (Initiation). We have corrected this error by removing the phrase “or pre-opened” from the scope for this final determination.

Verification

As provided in section 782(i) of the Act, from January 8 through 19, 2018, we conducted a verification of the information reported by the mandatory respondent Tainan Spinning Co., Ltd. (TSCL), for use in this final determination.⁸ We used standard verification procedures, including an examination of relevant accounting and production records and original source documents provided by the respondent.

⁸ See Memorandum, “Antidumping Duty Investigation of Fine Denier Polyester Staple Fiber from Taiwan: Verification of the Sales Responses of Tainan Spinning Co., Ltd.,” dated February 28, 2018; and Memorandum, “Verification of the Cost Response of Tainan Spinning Co., Ltd. in the Less-Than-Fair-Value Investigation of Fine Denier Polyester Staple Fiber from Taiwan,” dated February 27, 2018.

Analysis of Comments Received

All issues raised in the case and rebuttal briefs that were submitted by parties in this investigation are addressed in the Issues and Decision Memorandum. A list of these issues is attached to this notice as Appendix II.

Application of Adverse Facts Available (AFA)

As in the Preliminary Determination, pursuant to sections 776(a) and (b) of the Act, Commerce has continued to base Far Eastern Textile, Ltd.'s (Far Eastern) ⁹ dumping margin on the facts otherwise available, with an adverse inference, because the company did not respond to Commerce's questionnaire or otherwise participate in the investigation.¹⁰

⁹ Also known as Far Eastern New Century Corporation.

¹⁰ See Memorandum, “Antidumping Duty Investigation of Fine Denier Polyester Staple Fiber from Taiwan: Far Eastern Textile Ltd.,” dated August 8, 2017, at Attachment I (Far Eastern Withdrawal).

Changes Since the Preliminary Determination

Based on our analysis of the comments received, we made certain changes to the dumping margin calculations for TSCL. For further discussion, see the Issues and Decision Memorandum.

All-Others Rate

Section 735(c)(5)(A) of the Act provides that in the final determination Commerce shall determine an estimated all-others rate for all exporters and producers not individually examined. This rate shall be an amount equal to the weighted average of the estimated weighted-average dumping margins established for exporters and producers individually investigated, excluding any zero and de minimis margins, and any margins determined entirely under section 776 of the Act.

Pursuant to section 735(c)(5)(B) of the Act, if the estimated weighted-average dumping margins established for all exporters and producers individually examined are zero, de minimis or determined based entirely on facts otherwise available, Commerce may use “any reasonable method to establish the estimated weighted-average dumping margin for all-other producers and/or exporters, including averaging the estimated weighted average dumping margins determined for the exporters and producers individually investigated.” Because (1) the dumping margin for Far Eastern is based on AFA and (2) the dumping margin for TSCL is zero, pursuant to section 735(c)(5)(B) of the Act, we calculated the “all-others”' rate as a simple average of the dumping margins of Far Eastern and TSCL.

Final Determination

Commerce determines that the following estimated weighted-average dumping margins exist:

Exporter/producer | Estimated weighted- average dumping margin (percent)
Tainan Spinning Co., Ltd | 0.00
Far Eastern Textile Ltd. (AKA Far Eastern New Century Corporation) | 48.86
All-Others | 24.43

Consistent with section 735(a)(4) of the Act, based on the zero rate for TSCL, Commerce has determined that TSCL has not sold merchandise which it produced and exported at LTFV.

Suspension of Liquidation

In accordance with section 735(c)(1)(B) of the Act, Commerce will instruct U.S. Customs and Border Protection (CBP) to continue to suspend liquidation of all appropriate entries of fine denier PSF from Taiwan as described in Appendix I of this notice, which were entered, or withdrawn from warehouse, for consumption on or after January 5, 2018, the date of publication of the Preliminary Determination of this investigation in the Federal Register. Further, pursuant to section 735(c)(1)(B) of the Act and 19 CFR 351.210(d), Commerce will instruct CBP to require a cash deposit equal to the estimated weighted-average dumping margin or the estimated all-others rate, as follows: (1) The cash deposit rate for the respondents listed above will be equal to the respondent-specific estimated weighted-average dumping margins determined in this final determination; (2) if the exporter is not a respondent identified above, but the producer is, then the cash deposit rate will be equal to the respondent-specific estimated weighted-average dumping margin established for that producer of the subject merchandise, except as explained below; and (3) the cash deposit rate for all other producers and/or exporters will be equal to the all-others estimated weighted-average dumping margin.

Because the estimated weighted-average dumping margin for TSCL is zero, entries of shipments of subject merchandise both produced and exported by TSCL will not be subject to suspension of liquidation or cash deposit requirements. In such situations, Commerce applies the exclusion to the provisional measures to the producer/exporter combination that was examined in the investigation. Accordingly, Commerce is directing CBP to not suspend liquidation of entries of subject merchandise produced and exported by TSCL. Entries of shipments of subject merchandise from TSCL in any other producer/exporter combination, or by third parties that sourced subject merchandise from the excluded producer/exporter combination, are subject to the provisional measures at the all-others rate.

Because the final estimated weighted-average dumping margin for subject merchandise produced and exported by TSCL is zero, entries of shipments of subject merchandise from this producer/exporter combination will be excluded from the antidumping duty order. This exclusion is not applicable to merchandise exported to the United States by TSCL in any other producer/exporter combinations or by third parties that sourced subject merchandise from the excluded producer/exporter combination.

These suspension of liquidation instructions will remain in effect until further notice.

Disclosure

Commerce intends to disclose to interested parties its calculations and analysis performed in this final determination within five days of any public announcement or, if there is no public announcement, within five days of the date of publication of this notice in accordance with 19 CFR 351.224(b).

International Trade Commission Notification

In accordance with section 735(d) of the Act, Commerce will notify the International Trade Commission (ITC) of its final affirmative determination. Because the final determination in this proceeding is affirmative, in accordance with section 735(b)(2)(B) of the Act, the ITC will make its final determination as to whether the domestic industry in the United States is materially injured, or threatened with material injury, by reason of imports of fine denier PSF from Taiwan no later than 45 days after Commerce's final determination. If the ITC determines that material injury or threat of material injury does not exist, the proceeding will be terminated and all securities posted will be refunded or canceled. If the ITC determines that such injury does exist, Commerce will issue an antidumping duty order directing CBP to assess, upon further instruction by Commerce, antidumping duties on appropriate imports of the subject merchandise entered, or withdrawn from warehouse, for consumption on or after the effective date of the suspension of liquidation.

Notification to Interested Parties

This notice serves as a reminder to parties subject to an administrative protective order (APO) of their responsibility concerning the disposition of proprietary information disclosed under APO in accordance with 19 CFR 351.305(a)(3). Timely notification of the return or destruction of APO materials, or conversion to judicial protective order, is hereby requested. Failure to comply with the regulations and the terms of an APO is a violation subject to sanction.

This determination and this notice are issued and published pursuant to sections 735(d) and 777(i)(1) of the Act and 19 CFR 351.210(c).

Dated: May 23, 2018.
Gary Taverman,
Deputy Assistant Secretary for Antidumping and Countervailing Duty Operations performing the non-exclusive functions and duties of the Assistant Secretary for Enforcement and Compliance.

Appendix I—Scope of the Investigation

The merchandise covered by this investigation is fine denier polyester staple fiber (fine denier PSF), not carded or combed, measuring less than 3.3 decitex (3 denier) in diameter. The scope covers all fine denier PSF, whether coated or uncoated. The following products are excluded from the scope:

(1) PSF equal to or greater than 3.3 decitex (more than 3 denier, inclusive) currently classifiable under Harmonized Tariff Schedule of the United States (HTSUS) subheadings 5503.20.0045 and 5503.20.0065.

(2) Low-melt PSF defined as a bi-component polyester fiber having a polyester fiber component that melts at a lower temperature than the other polyester fiber component, which is currently classifiable under HTSUS subheading 5503.20.0015.

Fine denier PSF is classifiable under the HTSUS subheading 5503.20.0025. Although the HTSUS subheadings are provided for convenience and customs purposes, the written description of the scope of this investigation is dispositive.

Appendix II—List of Topics Discussed in the Issues and Decision Memorandum

I. Summary

II. List of Issues

III. Background

IV. Scope of the Investigation

V. Discussion of the Issues

Comment 1: Reported Costs for a Certain Product Control Number (CONNUM)

Comment 1(a): Direct Material Costs

Comment 1(b): Allocation of Labor and Overhead

Comment 1(c): Market Price Methodology for Grades B and C PSF

Comment 1(d): Scrap Offset Calculation

Comment 2: Factoring Agreement

Comment 3: Packing Cost

Comment 4: Application of Partial Facts Available

VI. Recommendation

[FR Doc. 2018-11712 Filed 5-29-18; 8:45 am]

BILLING CODE 3510-DS-P